FEDERAL RESERVE SYSTEM

Sunshine Act Meeting

AGENCY HOLDING THE MEETING: Board of Governors of the Federal Reserve System.

FEDERAL REGISTER CITATION OF PREVIOUS ANNOUNCEMENT: 66 FR 54527, October 29, 2001.

PREVIOUSLY ANNOUNCED TIME AND DATE OF THE MEETING: 10:30 a.m. Wednesday, October 31, 2001.

CHANGES IN THE MEETING: Addition of the following closed item(s) to the meeting: Consideration of quorum and other voting requirements for Board action.

CONTACT PERSON FOR MORE INFORMATION: Michelle A. Smith, Assistant to the Board; 202-452-3204.

SUPPLEMENTARY INFORMATION: You may call 202-452-3206 beginning at approximately 5 p.m. two business days before the meeting for a recorded announcement of bank and bank holding company applications scheduled for the meeting; or you may contact the Board's Web site at http://www.federalreserve.gov for an electronic announcement that not only lists applications, but also indicates procedural and other information about the meeting.

Dated: October 31, 2001.
Robert deV. Frierson,
Deputy Secretary of the Board.

[FR Doc. 01-27763 Filed 10-31-01; 4:41 pm]

BILLING CODE 6210-01-P